GENERAL SERVICES ADMINISTRATION

[OMB Control No. 3090-0121; Docket 2013-0001; Sequence 6]

General Services Administration Acquisition Regulation; Submission for OMB Review; Industrial Funding Fee and Sales Reporting

AGENCY: Acquisition Policy Division, GSA.

ACTION: Notice of request for comments regarding a reinstatement of an information collection for an existing OMB clearance.

SUMMARY: Under the provisions of the Paperwork Reduction Act, the Regulatory Secretariat will be submitting to the Office of Management and Budget (OMB) a request to review and approve a reinstatement of a previously approved information collection requirement regarding industrial funding fee and sales reporting. A notice was published in the Federal Register at 77 FR 76446, on December 28, 2012. One comment was received.

DATES: Submit comments on or before: June 10, 2013.

FOR FURTHER INFORMATION CONTACT: Ms. Dana Munson, Procurement Analyst, Contract Policy Branch, at telephone (202) 357-9652 or via email to dana.munson@gsa.gov.

ADDRESSES: Submit comments identified by Information Collection 3090-0121, Industrial Funding Fee (IFF) and Sales Reporting, by any of the following methods:

• Regulations.gov: http://www.regulations.gov. Submit comments via the Federal eRulemaking portal by searching the OMB control number. Select the link “Submit a Comment” that corresponds with “Information Collection 3090-0121, Industrial Funding Fee (IFF) and Sales Reporting”. Follow the instructions provided at the “Submit a Comment” screen. Please include your name, company name (if any), and “Information Collection 3090-0121, Industrial Funding Fee (IFF) and Sales Reporting” on your attached document.

• Fax: 202-501-4067.

• Mail: General Services Administration, Regulatory Secretariat (MVCB), 1275 First Street NE., Washington, DC 20417. ATTN: Hada Flowers/IC 3090-0121, Industrial Funding Fee (IFF) and Sales Reporting.

Instructions: Please submit comments only and cite Information Collection 3090-0121, Industrial Funding Fee (IFF) and Sales Reporting, in all correspondence related to this collection. Submit comments regarding this burden estimate or any other aspect of this collection of information, including suggestions for reducing this burden to: FAR Desk Officer, OMB, Room 10102, NEOB, Washington, DC 20503. All comments received will be posted without change to http://www.regulations.gov, including any personal and/or business confidential information provided.

SUPPLEMENTARY INFORMATION:

A. Purpose

GSA is amending the General Services Administration Acquisition Regulation (GSAR) to revise GSAR/GSAM clauses to address use of the Industrial Funding Fee (IFF) under the Multiple Award Schedules (MAS) Program, to reflect the current use of the Industrial Funding Fee including the authority to offset losses in other Federal Acquisition Service (FAS) programs and fund initiatives that benefit other FAS programs.

Public comments are particularly invited on: Whether this collection of information is necessary and whether it will have practical utility; whether our estimate of the public burden of this collection of information is accurate and based on valid assumptions and methodology; and ways to enhance the quality, utility, and clarity of the information to be collected.

B. Discussion and Analysis

One comment pertaining to the collection was received.

Comment 1: Commenter supports the proposed change to the GSAR that will increase the transparency of how the IFF is used. However, felt that the estimated burden was understated based on the time and money vendors spend developing systems to track purchases and ensuring that reporting is accurate.

GSA Response: Estimated burden hours already take into consideration the varying amount of time it can take to comply with the clause each quarter and is meant to represent an average across the entire Multiple Award Schedules Program.

No changes were made to the collection as a result of the comment received.

C. Annual Reporting Burden

Respondents: 19,000.

Responses per Respondent: 4.

Total Responses: 76,000.

Hours per Response: .0833.

Total Burden Hours: 6,330.80.

Obtaining Copies of Proposals: Requesters may obtain a copy of the information collection documents from the General Services Administration, Regulatory Secretariat (MVCB), 1275 First Street NE., Washington, DC 20417, telephone (202) 208-7312. Please cite OMB Control No. 3090-0121, Industrial Funding Fee and Sales Reporting, in all correspondence.

Dated: May 1, 2013.
Steve Kempf,
Acting Senior Procurement Executive.

[FR Doc. 2013-10892 Filed 5-8-13; 8:45 am]

BILLING CODE 6820-61-P